DEPARTMENT OF THE TREASURY

Internal Revenue Service

26 CFR Part 602

[TD 9061]

RIN 1545-BB55

Automatic Extension of Time To File Certain Information Returns and Exempt Organization Returns; Correction

AGENCY: Internal Revenue Service (IRS), Treasury.

ACTION: Correction to final and temporary regulations.

SUMMARY: This document contains corrections to final and temporary regulations that were published in the Federal Register on June 11, 2003 (68 FR 34797), regarding an automatic extension of time to file certain information returns and exempt organization returns under section 6081 of the Internal Revenue Code.

DATES: This correction is effective June 11, 2003.

FOR FURTHER INFORMATION CONTACT: Charles A. Hall (202) 622-4940 (not a toll-free number).

SUPPLEMENTARY INFORMATION:

Background

The final and temporary regulations that are the subject of these corrections are under section 6081 of the Internal Revenue Code.

Need for Correction

As published, these final and temporary regulations (TD 9061) contain errors that may prove to be misleading and are in need of clarification.

Correction of Publication

Accordingly, the publication of the final and temporary regulations (TD 9061), which were the subject of FR Doc. 03-14603, is corrected to read as follows:

On page 34799, column 3, § 602.101(b), the entries in the table are corrected to read as follows:

§ 602.101 OMB Control numbers

* * * * *

(b)* * *

CFR part or section where identified and described | Current OMB control No.
* * * * *
1.6081-8T | 1545-1840
1.6081-9T | 1545-1840
* * * * *

Cynthia E. Grigsby,
Acting Chief, Publications and Regulations Branch, Legal Processing Division, Associate Chief Counsel (Procedures and Administration).

[FR Doc. 03-23876 Filed 9-17-03; 8:45 am]

BILLING CODE 4830-01-P